DEPARTMENT OF HOUSING AND URBAN DEVELOPMENT

[Docket No. FR-5321-C-03]

Notice of Fund Availability (NOFA) for Fiscal Year 2009 Neighborhood Stabilization Program 2 Under the American Recovery and Reinvestment Act of 2009; Correction

AGENCY: Office of the Assistant Secretary for Community Planning and Development, HUD.

ACTION: Notice.

SUMMARY: On May 4, 2009, HUD posted its NSP2 NOFA at http://www.hud.gov/nsp and announced the availability of the NOFA on May 7, 2009 (74 FR 21377). The NSP2 NOFA announced the availability of approximately $1.93 billion available in competitive grants authorized under the American Recovery and Reinvestment Act of 2009 (Pub. L. 111-5, approved February 17, 2009). The NSP2 NOFA was corrected by Notice posted on the HUD website and announced on June 11, 2009 (74 FR 28715). Today's Federal Register publication announces that HUD has posted a notice making further corrections to the NSP2 NOFA. Specifically, the Notice (1) corrects an inconsistency in the NSP2 NOFA regarding when the lead member of a consortium must enter into consortium funding agreements with consortium members; and (2) extends the deadline for submitting such agreements to HUD to January 29, 2010. This notice only affects applications for funding that have already been submitted to HUD by consortium applicants. HUD notes that the deadline for applications was July 17, 2009, and, as a result, will not accept new applications for funding. The notice correcting the NSP2 NOFA is available on the HUD Web site at http://www.hud.gov/recovery.

FOR FURTHER INFORMATION CONTACT: Stanley Gimont, Director, Office of Block Grant Assistance, Department of Housing and Urban Development, Room 7286, 451 Seventh Street, SW., Washington, DC 20410, telephone number (202) 708-3587. Persons with hearing or speech impairments may access this number via TTY by calling the Federal Information Relay Service at (800) 877-8339. FAX inquiries may be sent to Mr. Gimont at (202) 401-2044. (Except for the “800” number, these telephone numbers are not toll-free.)

Dated: November 9, 2009.
Mercedes M. Márquez,
Assistant Secretary for Community Planning and Development.

[FR Doc. E9-27414 Filed 11-13-09; 8:45 am]

BILLING CODE 4210-67-P